DEPARTMENT OF AGRICULTURE

Agricultural Marketing Service

[Doc. No. AMS-SC-23-0048]

Notice of Request for Extension of a Currently Approved Information Collection

AGENCY: Agricultural Marketing Service, USDA.

ACTION: Notice and request for comments.

SUMMARY: In accordance with the Paperwork Reduction Act of 1995, this notice announces the Agricultural Marketing Service's (AMS) intention to request an extension for the form currently used by marketers to apply for exemption from market promotion assessments under Federal marketing order programs.

DATES: Comments on this notice are due by February 6, 2024 to be assured of consideration.

ADDRESSES: Interested persons are invited to submit written comments concerning this notice. Comments must be sent to the Docket Clerk, Market Development Division, Specialty Crops Program, AMS, USDA, 1400 Independence Avenue SW, STOP 0237, Washington, DC 20250-0237; Fax: (202) 720-8938; or internet: https://www.regulations.gov. Comments should reference the docket number and the date and page number of this issue of the Federal Register and will be available for public inspection in the Office of the Docket Clerk during regular business hours or can be viewed at: https://www.regulations.gov. All comments submitted in response to this notice will be included in the record and will be made available to the public. Please be advised that the identity of individuals or entities submitting the comments will be made public on the internet at the address provided above.

FOR FURTHER INFORMATION CONTACT: Thomas Nalepa, Marketing Specialist, Market Development Division, Specialty Crops Program, AMS, USDA, 1400 Independence Avenue SW, Stop 0237, Room 1406-S, Washington, DC 20250-0237; Telephone: (202) 720-8085, Email: Thomas.Nalepa@usda.gov.

Small businesses may request information on this notice by contacting Richard Lower, Market Development Division, Specialty Crops Program, AMS, USDA, 1400 Independence Avenue SW, Stop 0237, Room 1406-S, Washington, DC 20250-0237; Telephone: (202) 720-8085; or Email: Richard.Lower@usda.gov.

SUPPLEMENTARY INFORMATION:

Title: Organic Handler Market Promotion Assessment Exemption under Federal Marketing Orders.

OMB Number: 0581-0216.

Expiration Date of Approval: February 29, 2024.

Type of Request: Extension of a currently approved information collection.

Abstract: Marketing order programs provide an opportunity for producers of fresh fruit, vegetables, and specialty crops in specified production areas to work together to solve marketing problems that cannot be solved individually.

Under the Agricultural Marketing Agreement Act of 1937 as amended (7 U.S.C. 601-674), marketing orders may authorize production and marketing research, including paid advertising, to promote various commodities, which is paid for by assessments that are levied on the handlers who are regulated by the Orders.

On May 13, 2002, the Farm Security and Rural Investment Act (7 U.S.C. 7901) amended the Federal Agriculture Improvement and Reform Act of 1996 (7 U.S.C. 7201), exempting any person who handles or markets solely 100 percent organic products from paying these assessments with respect to any agricultural commodity that is produced on a certified organic farm, as defined in the Organic Foods Production Act of 1990 (7 U.S.C. 6502). A certified organic handler can apply for this exemption by completing a “Certified Organic Handler Application for Exemption from Market Promotion Assessments Paid Under Federal Marketing Orders,” and submitting it to the applicable marketing order committee or board.

Section 900.700 of the regulations (7 CFR 900.700) provides for exemption from assessments. This notice applies to the following marketing orders: 7 CFR parts 906 (Oranges and grapefruit grown in Lower Rio Grande Valley in Texas), 915 (Avocados grown in south Florida), 923 (Sweet cherries grown in designated counties in Washington), 925 (Grapes grown in a designated area of southeastern California), 927 (Pears grown in Oregon and Washington), 929 (Cranberries grown in Massachusetts, Rhode Island, Connecticut, New Jersey, Wisconsin, Michigan, Minnesota, Oregon, Washington, and Long Island in New York), 930 (Tart cherries grown in Michigan, New York, Pennsylvania, Oregon, Utah, Washington, and Wisconsin), 932 (Olives grown in California), 948 (Irish potatoes grown in Colorado), 955 (Vidalia onions grown in Georgia), 956 (Sweet onions grown in the Walla Walla Valley of southeast Washington and northeast Oregon), 958 (Onions grown in certain designated counties in Idaho, and Malheur County, Oregon), 959 (Onions grown in South Texas), 966 (Tomatoes grown in Florida), 981 (Almonds grown in California), 982 (Hazelnuts grown in Oregon and Washington), 984 (Walnuts grown in California), 985 (Spearmint oil produced in Washington, Idaho, Oregon, and parts of Nevada and Utah), 986 (Pecans produced in Alabama, Arkansas, Arizona, California, Florida, Georgia, Kansas, Louisiana, Missouri, Mississippi, North Carolina, New Mexico, Oklahoma, South Carolina, and Texas), 987 (Domestic dates produced or packed in Riverside County, California), 989 (Raisins produced from grapes grown in California), and 993 (Dried prunes produced in California).

The information collected is used only by authorized marketing order committee or board employees, who are the primary users of the information, and by authorized representatives of the USDA, including the AMS Specialty Crops Program's regional and headquarters staff, who are the secondary users of the information.

Estimate of Burden: The public reporting burden for this collection of information is estimated to average 15 minutes per response.

Respondents: Respondents are eligible certified organic handlers.

Estimated Number of Respondents: 210.

Estimated Number of Total Annual Responses: 210.

Estimated Number of Responses per Respondent: 1.

Estimated Total Annual Burden on Respondents: 52.5 hours.

Comments are invited on: (1) Whether the proposed collection of information is necessary for the proper performance of the functions of the Agency, including whether the information will have practical utility; (2) the accuracy of the Agency's estimate of the burden of the proposed collection of information, including the validity of the methodology and assumptions used; (3) ways to enhance the quality, utility and clarity of the information to be collected; and (4) was to minimize the burden of the collection of information on those who are to respond, including through the use of appropriate automated, electronic, mechanical, or other technological collection techniques or other forms of information technology.

Erin Morris,
Associate Administrator, Agricultural Marketing Service.

[FR Doc. 2023-26978 Filed 12-7-23; 8:45 am]

BILLING CODE 3410-02-P